FEDERAL COMMUNICATIONS COMMISSION

47 CFR Part 73

[DA 07-3622; MB Docket No. 07-175; RM-11380]

Radio Broadcasting Services; Cuba, IL

AGENCY: Federal Communications Commission.

ACTION: Proposed rule.

SUMMARY: This document requests comments on a petition for rule making filed by KM Communications, Inc. (“Petitioner”) proposing: (1) To substitute Channel 252A for vacant Channel 292A at Cuba, Illinois at current reference coordinates 40-25-50 NL and 90-14-05 WL with a site restriction of 7.9 km (4.9 miles) southwest of the community and (2) as already reflected in the Media Bureau Consolidated Data Base System, change the reference coordinates of vacant Channel 253A at Augusta, Illinois to 40-08-34 NL and 91-02-51 WL with a site restriction of 12.8 km (7.9 miles) southwest of the community. Petitioner proposes the channel substitution at Cuba to accommodate its pending construction permit application (file no. BNPH-20070502AAU) to substitute Channel 291A for Channel 252A at Abingdon, Illinois which will be considered separately.

DATES: Comments must be filed on or before October 15, 2007, and reply comments on or before October 30, 2007.

ADDRESSES: Federal Communications Commission, 445 Twelfth Street, SW., Washington, DC 20554. In addition to filing comments with the FCC, interested parties should serve the Petitioner's counsel, as follows: Jeffrey L. Timmons, Esquire, 1400 Buford Highway, Suite G-5, Sugar Hill, Georgia 30518-8727.

FOR FURTHER INFORMATION CONTACT: Helen McLean, Media Bureau, (202) 418-2738.

SUPPLEMENTARY INFORMATION: This is a summary of the Commission's Notice of Proposed Rule Making, MB Docket No. 07-175, adopted August 22, 2007, and released August 24, 2007. The full text of this Commission decision is available for inspection and copying during normal business hours in the Commission's Reference Center, 445 Twelfth Street, SW., Washington, DC 20554. This document may also be purchased from the Commission's duplicating contractors, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Illinois, is amended by removing Channel 292A and by adding Channel 252A at Cuba.

Federal Communications Commission.
John A. Karousos,
Assistant Chief, Audio Division, Media Bureau.

[FR Doc. E7-17866 Filed 9-12-07; 8:45 am]

BILLING CODE 6712-01-P